DEPARTMENT OF COMMERCE

International Trade Administration

A-552-801

Certain Frozen Fish Fillets From the Socialist Republic of Vietnam: Extension of Time Limits for the Preliminary Results of the New Shipper Review

AGENCY: Import Administration, International Trade Administration, Department of Commerce.

EFFECTIVE DATE: September 25, 2009.

FOR FURTHER INFORMATION CONTACT: Javier Barrientos, AD/CVD Operations, Office 9, Import Administration, International Trade Administration, U.S. Department of Commerce, 14th Street and Constitution Avenue, NW, Washington, DC 20230; telephone: (202) 482-2243.

Background

The antidumping duty order on certain frozen fish fillets from the Socialist Republic of Vietnam (“Vietnam”) was published in the Federal Register on August 12, 2003. See Notice of Antidumping Duty Order: Certain Frozen Fish Fillets from the Socialist Republic of Vietnam, 68 FR 47909 (August 12, 2003). On February 6, 2009, we received a timely request for a new shipper review from NTSF Seafoods Joint Stock Company (“NTSF”) in accordance with 19 CFR 351.214(c) and 351.214(d)(2). On March 24, 2009, the Department issued a notice of initiation of new shipper review of certain frozen fish fillets from Vietnam covering the period of August 1, 2008, - January 31, 2009. See Certain Frozen Fish Fillets from the Socialist Republic of Vietnam: Initiation of Antidumping Duty New Shipper Review, 74 FR 57058, (March 27, 2009). The preliminary results are currently due no later than September 20, 2009.

Statutory Time Limits

Section 751(a)(2)(B)(iv) of the Tariff Act of 1930, as amended (the “Act”), provides that the Department will issue the preliminary results of a new shipper review of an antidumping duty order within 180 days after the day on which the review was initiated. See also 19 CFR 351.214 (i)(1). The Act further provides that the Department may extend that 180-day period to 300 days if it determines that the case is extraordinarily complicated. See also 19 CFR 351.214 (i)(2).

Extension of Time Limit of Preliminary Results

The Department determines that this new shipper review involves extraordinarily complicated methodological issues such as the examination of importer information and the evaluation of the bona fide nature of NTSF's sales. In addition, the Department needs additional time to evaluate the affiliations amongst NTSF and other entities. Therefore, in accordance with section 751(a)(2)(B)(iv) of the Act and 19 CFR 351.214(i)(2), the Department is extending the time limit for these preliminary results by 120 days, until no later than January 18, 2010. The final results continue to be due 90 days after the publication of the preliminary results.

We are issuing and publishing this notice in accordance with sections 751(a)(2)(B)(iv) and 777(i) of the Act.

Dated: September 17, 2009.
John M. Andersen,
Acting Deputy Assistant Secretary for Import Administration.

[FR Doc. E9-23261 Filed 9-24-09; 8:45 am]

BILLING CODE 3510-DS-S